DEPARTMENT OF ENERGY

Federal Energy Regulatory Commission

Combined Notice of Filings

March 5, 2009.

Take notice that the Commission has received the following Natural Gas Pipeline Rate and Refund Report filings:

Docket Numbers: RP96-312-189.

Applicants: Tennessee Gas Pipeline Company.

Description: Tennessee Gas Pipeline Co submits an amended gas transportation agreement.

Filed Date: 03/02/2009.

Accession Number: 20090304-0081.

Comment Date: 5 p.m. Eastern Time on Monday, March 16, 2009.

Docket Numbers: RP96-320-101.

Applicants: Gulf South Pipeline Company, LP.

Description: Gulf South Pipeline Co, LP submits the capacity release agreement.

Filed Date: 02/27/2009.

Accession Number: 20090304-0150.

Comment Date: 5 p.m. Eastern Time on Wednesday, March 11, 2009.

Docket Numbers: RP96-272-088.

Applicants: Northern Natural Gas Company.

Description: Northern Natural Gas Co submits 50 Revised Sheet 66 et al to FERC Gas Tariff, Fifth Revised Volume 1, to be effective 3/1/09.

Filed Date: 02/27/2009.

Accession Number: 20090304-0155.

Comment Date: 5 p.m. Eastern Time on Wednesday, March 11, 2009.

Docket Numbers: RP96-383-092.

Applicants: Dominion Transmission, Inc.

Description: Dominion Transmission, Inc submits Sixteenth Revised Sheet 1405 to FERC Gas Tariff, Third Revised Volume 1, to be effective 3/1/09.

Filed Date: 02/27/2009.

Accession Number: 20090304-0154.

Comment Date: 5 p.m. Eastern Time on Wednesday, March 11, 2009.

Docket Numbers: RP99-176-183.

Applicants: Natural Gas Pipeline Co of America LLC.

Description: Natural Gas Pipeline Company of America, LLC submits the Firm Transportation and Storage Negotiated Rate Agreement with Northern Illinois Gas Co.

Filed Date: 02/27/2009.

Accession Number: 20090304-0152.

Comment Date: 5 p.m. Eastern Time on Wednesday, March 11, 2009.

Docket Numbers: RP99-176-184.

Applicants: Natural Gas Pipeline Co of America LLC.

Description: Natural Gas Pipeline Co of America, LLC submits two amendments to the Transportation Rate Schedule FTS Agreement.

Filed Date: 02/27/2009.

Accession Number: 20090304-0151.

Comment Date: 5 p.m. Eastern Time on Wednesday, March 11, 2009.

Docket Numbers: RP06-540-007.

Applicants: High Island Offshore System, L.L.C.

Description: Second annual report of non-routine expenditures pursuant to its O&M Agreement for calendar year 2008 of High Island Offshore System, L.L.C..

Filed Date: 03/02/2009.

Accession Number: 20090302-5186.

Comment Date: 5 p.m. Eastern Time on Monday, March 16, 2009.

Docket Numbers: RP09-285-001.

Applicants: Central Kentucky Transmission Company.

Description: Central Kentucky Transmission Co submits Second Revised Sheet No. 134 et al to FERC Gas Tariff, Second Revised Volume No. 1, to be effective 2/26/09.

Filed Date: 03/03/2009.

Accession Number: 20090304-0129.

Comment Date: 5 p.m. Eastern Time on Monday, March 16, 2009.

Docket Numbers: RP09-427-000.

Applicants: Southern Natural Gas Company.

Description: Southern Natural Gas submits Third Revised Sheet 1 et al to FERC Gas Tariff, Seventh Revised Volume 1.

Filed Date: 03/02/2009.

Accession Number: 20090304-0082.

Comment Date: 5 p.m. Eastern Time on Monday, March 16, 2009.

Docket Numbers: RP09-429-000.

Applicants: Florida Gas Transmission Company, LLC.

Description: Florida Gas Transmission Company LLC submits their Capital Surcharge Filing.

Filed Date: 02/27/2009.

Accession Number: 20090304-0073.

Comment Date: 5 p.m. Eastern Time on Wednesday, March 11, 2009.

Docket Numbers: RP09-431-000.

Applicants: Vector Pipeline, L.P.

Description: Vector Pipeline, LP submits proposed tariff sheets for the purpose of effecting a general system-wide rate decrease.

Filed Date: 02/27/2009.

Accession Number: 20090304-0074.

Comment Date: 5 p.m. Eastern Time on Wednesday, March 11, 2009.

Docket Numbers: RP09-432-000.

Applicants: El Paso Natural Gas Company.

Description: El Paso Natural Gas Co submits a transportation service agreement and Twentieth Revised Sheet 2 to FERC Gas Tariff, Second Revised Volume 1A under RP09-432.

Filed Date: 03/02/2009.

Accession Number: 20090304-0077.

Comment Date: 5 p.m. Eastern Time on Monday, March 16, 2009.

Docket Numbers: RP09-433-000.

Applicants: Dominion Cove Point LNG, LP.

Description: Dominion Cove Point LNG, LP submits Eleventh Revised Sheet 8 et al to FERC Gas Tariff, Original Volume 1.

Filed Date: 02/27/2009.

Accession Number: 20090304-0079.

Comment Date: 5 p.m. Eastern Time on Wednesday, March 11, 2009.

Docket Numbers: RP09-434-000.

Applicants: Sabine Pipe Line, LLC.

Description: Sabine Pipe Line, LLC submits Twelfth Revised Sheet 20 to FERC Gas Tariff, Original Volume 1 under RP09-434.

Filed Date: 03/03/2009.

Accession Number: 20090304-0078.

Comment Date: 5 p.m. Eastern Time on Monday, March 16, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please email FERCOnlineSupport@ferc.gov. or call (866) 208-3676 (toll free). For TTY, call (202) 502-8659.

Nathaniel J. Davis, Sr.,
Deputy Secretary.

[FR Doc. E9-5686 Filed 3-16-09; 8:45 am]

BILLING CODE 6717-01-P